CORPORATION FOR NATIONAL AND COMMUNITY SERVICE

Notice Inviting Informal Public Comment on Training and Technical Assistance and Disability Inclusion Programming

AGENCY: Corporation for National and Community Service.

ACTION: Notice Inviting Informal Public Comment on Training and Technical Assistance and Disability Inclusion Programming; correction.

SUMMARY: The Corporation for National and Community Service (CNCS) is correcting the Notice Inviting Informal Comment on Training and Technical Assistance and Disability Inclusion Programming that appeared in the Federal Register of June 11, 2012 (75 FR 34354). That document incorrectly listed the TDD number as (202) 606-3427.

FOR FURTHER INFORMATION CONTACT: Gina Fulbright-Powell, Corporation for National and Community Service; tta@cns.gov; (202) 606-7515 or TDD (800) 833-3722. Persons with visual impairments may request this notice in an alternative format.

SUPPLEMENTARY INFORMATION: Beginning on page 34354 in the Federal Register of Monday, June 11, 2012, make the following correction: On page 34354 in the second column, revise the TDD number (202) 606-3427 to read as follows: (800) 833-3722.

Dated: June 14, 2012.
Gretchen Van der Veer,
Director, Leadership Development and Training.

[FR Doc. 2012-15224 Filed 6-20-12; 8:45 am]

BILLING CODE 6050-$$-P